DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security.

Title: Application for NATO International Competitive Bidding.

Form Number(s): BIS-4023P.

OMB Control Number: 0694-0128.

Type of Request: Regular.

Burden Hours: 40 hours.

Number of Respondents: 40 respondents.

Average Hours per Response: 1 hour per response.

Needs and Uses: Opportunities to bid for contracts under the North Atlantic Treaty Organization (NATO) Security Investment Program (NSIP) are only open to firms of member NATO countries. NSIP procedures for international competitive bidding (AC/4-D/2261) require that each NATO country certify that their respective firms are eligible to bid on such contracts. This is done through the issuance of a “Declaration of Eligibility.” The U.S. Department of Commerce, Bureau of Industry and Security (BIS) is the executive agency responsible for certifying U.S. firms. The BIS-4023P is the application form used to collect information needed to ascertain the eligibility of a U.S. firm. BIS will review applications for completeness and accuracy, and determine a company's eligibility based on its financial viability, technical capability, and security clearances with the U.S. Department of Defense.

Affected Public: Businesses and other for-profit institutions.

Frequency: On occasion.

Respondent's Obligation: Voluntary.

OMB Desk Officer: Jasmeet Seehra, FAX number (202) 395-7285.

Requests for additional information or copies of the information collection instrument and instructions should be directed to Mark Crace, BIS Liaison, (202) 482-8093, Mark.Crace@bis.doc.gov.

Written comments and recommendations for the proposed information collection should be sent within 30 days of publication of this notice to Jasmeet Seehra, Office of Management and Budget (OMB), by email to jseehra@omb.eop.gov, or by fax to (202) 395-7285.

Sheleen Dumas,
Departmental PRA Lead, Office of the Chief Information Officer.

[FR Doc. 2016-24993 Filed 10-14-16; 8:45 am]

BILLING CODE 3510-33-P